DEPARTMENT OF COMMERCE

International Trade Administration

[A-475-828, A-557-809, A-565-801]

Stainless Steel Butt-Weld Pipe Fittings From Italy, Malaysia, and the Philippines: Continuation of Antidumping Duty Orders

AGENCY: Enforcement and Compliance, International Trade Administration, Department of Commerce.

SUMMARY: The Department of Commerce (Commerce) and the International Trade Commission (the ITC) have determined that revocation of the antidumping duty orders on stainless steel butt-weld pipe fittings (butt-weld fittings) from Italy, Malaysia, and the Philippines would likely lead to a continuation or recurrence of dumping and material injury to an industry in the United States. Therefore, Commerce is publishing a notice of continuation of these orders.

DATES: Effective December 29, 2017.

FOR FURTHER INFORMATION CONTACT: Madeline Heeren, AD/CVD Operations, Office VI, Enforcement and Compliance, International Trade Administration, U.S. Department of Commerce, 1401 Constitution Avenue NW, Washington, DC 20230; telephone (202) 482-9179.

SUPPLEMENTARY INFORMATION:

Background

On June 2, 2017, the Department initiated five-year (sunset) reviews of the Orders ¹ on butt-weld fittings pursuant to section 751(c) of the Tariff Act of 1930, as amended (the Act).² On June 1, 2017, the ITC instituted its review of the Orders.³ Commerce conducted an expedited sunset review of the Orders. As a result of these sunset reviews, Commerce determined that revocation of the Orders would likely lead to a continuation or recurrence of dumping and, therefore, notified the ITC of the magnitude of the dumping margins likely to prevail should the orders be revoked, pursuant to sections 751(c)(1) and 752(c)(3) of the Act.⁴

¹ See Antidumping Duty Orders: Stainless Steel Butt-Weld Pipe Fittings from Italy, Malaysia, and the Philippines, 66 FR 11257 (February 23, 2001) (Orders).

² See Initiation of Five-Year (“Sunset”) Review, 82 FR 25599 (June 2, 2017) (Sunset Initiation).

³ See Stainless Steel Butt-Weld Pipe Fittings from Italy, Malaysia, and the Philippines; Institution of Five-Year Reviews, 82 FR 25324 (June 1, 2017).

⁴ Certain Stainless Steel Butt-Weld Pipe Fittings from Italy, Malaysia, and the Philippines: Final Results of the Expedited Sunset Review of the Antidumping Duty Orders, 82 FR 46763 (October 6, 2017), and accompanying Issues and Decision Memorandum.

On December 20, 2017, the ITC published its determination, pursuant to section 751(c) and 752(a) of the Act, that revocation of the Orders would likely lead to continuation or recurrence of material injury to an industry in the United Sates within a reasonably foreseeable time.⁵

⁵ See Investigation No. 731-TA-865-867 (Third Review), 82 FR 60419 (December 20, 2017), and USITC Publication 4751 (January 2018), entitled Stainless Steel Butt-Weld Pipe Fittings from Italy, Malaysia, and the Philippines: Investigation Nos. 731-TA-865-867 (Third Review).

Scope of the Orders

For purposes of these Orders, the product covered is certain stainless steel butt-weld pipe fittings (butt-weld fittings). Butt-weld fittings are under 14 inches in outside diameter (based on nominal pipe size), whether finished or unfinished. The product encompasses all grades of stainless steel and “commodity” and “specialty” fittings. Specifically excluded from the definition are threaded, grooved, and bolted fittings, and fittings made from any material other than stainless steel.

The butt-weld fittings subject to these Orders are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Butt-weld fittings manufactured to specification ASTM A774, or its foreign equivalents, are also covered by the Orders.

These Orders do not apply to cast fittings. Cast austenitic stainless steel pipe fittings are covered by specifications A351/A351M, A743/743M, and A744/A744M.

The butt-weld fittings subject to these Orders are currently classifiable under subheading 7307.23.0000 of the Harmonized Tariff Schedule of the United States (HTSUS). Although the HTSUS subheadings are provided for convenience and customs purposes, the written description of the scope of these Orders is dispositive.

Continuation of the Orders

As a result of the determinations by Commerce and the ITC that revocation of the Orders would likely lead to a continuation or recurrence of dumping and material injury to an industry in the United States, pursuant to section 751(d)(2) of the Act and 19 CFR 351.218(a), Commerce hereby orders the continuation of the Orders. U.S. Customs and Border Protection will continue to collect cash deposits at the rates in effect at the time of entry for all imports of subject merchandise.

The effective date of the continuation of the Orders will be the date of publication in the Federal Register of this notice of continuation. Pursuant to section 751(c)(2) of the Act, the Department intends to initiate the next five-year reviews of the Orders not later than 30 days prior to the fifth anniversary of the effective date of continuation.

These five-year (sunset) reviews and this notice are in accordance with sections 751(c) of the Act and published pursuant to section 777(i)(1) of the Act and 19 CFR 351.218(f)(4).

Dated: December 21, 2017.
Gary Taverman,
Deputy Assistant Secretary for Antidumping and Countervailing Duty Operations, performing the non-exclusive functions and duties of the Assistant Secretary for Enforcement and Compliance.

[FR Doc. 2017-28196 Filed 12-28-17; 8:45 am]

BILLING CODE 3510-DS-P